DEPARTMENT OF TRANSPORTATION

Surface Transportation Board

[Docket No. FD 35751]

Iowa Interstate Railroad, Ltd.—Acquisition Exemption—Line of BNSF Railway Company

AGENCY: Surface Transportation Board, DOT.

ACTION: Notice of exemption.

SUMMARY: The Board is granting an exemption under 49 U.S.C. 10502 from the prior approval requirements of 49 U.S.C. 10902 for Iowa Interstate Railroad, Ltd. (IAIS), a Class II rail carrier, to acquire approximately 0.75-miles of rail line in Council Bluffs, Iowa, from BNSF Railway Company (BNSF), subject to employee protective conditions.

DATES: The exemption will be effective on February 5, 2014. Petitions to stay must be filed by January 27, 2014. Petitions for reconsideration must be filed by January 31, 2014.

ADDRESSES: An original and 10 copies of all pleadings, referring to Docket No. FD 35751, must be filed with the Surface Transportation Board, 395 E Street SW., Washington, DC 20423-0001. In addition, one copy of each pleading must be served on IAIS's representative: Thomas J. Litwiler, Fletcher & Sippel LLC, 29 North Wacker Drive, Suite 920, Chicago, IL 60606-2832.

FOR FURTHER INFORMATION CONTACT: Jonathon Binet, (202) 245-0368. Assistance for the hearing impaired is available through the Federal Information Relay Service (FIRS) at (800) 877-8339.

SUPPLEMENTARY INFORMATION: Additional information is contained in the Board's decision. Board decisions and notices are available on our Web site at www.stb.dot.gov.

Decided: January 13, 2014.
By the Board, Chairman Elliott and Vice Chairman Begeman.
Derrick A. Gardner,
Clearance Clerk.

[FR Doc. 2014-00741 Filed 1-15-14; 8:45 am]

BILLING CODE 4915-01-P